ENVIRONMENTAL PROTECTION AGENCY

[EPA-HQ-OAR-2023-0614; FRL-11723-01-OAR]

Technical Documentation for the Framework for Evaluating Damages and Impacts (FrEDI)

AGENCY: Environmental Protection Agency (EPA).

ACTION: Notice of document availability and request for comments.

SUMMARY: The Environmental Protection Agency (EPA) is announcing a 30-day public comment period for the draft document titled, “Technical Documentation for the Framework for Evaluating Damages and Impacts (FrEDI)” (EPA 430-R-24-001). This document provides technical documentation of a Framework used to analyze future climate change-related impacts to the United States, projected to occur across multiple impact sector categories, geographic regions, and populations, under any custom temperature scenario. This approach serves as an alternative or complement to traditional scenario-based approaches in order to improve communication of results, comparability between studies, and flexibility to facilitate scenario analysis. The draft technical documentation will also be subject to external peer review. Prior to finalizing the draft document, EPA intends to carefully consider all comments received from the public and from external peer reviewers. This draft document is not final as described in EPA's information quality guidelines and does not represent and should not be construed to represent Agency policy or views. The draft document is available via the internet on EPA's web page at https://www.epa.gov/cira/2024-draft-fredi-td.

DATES: To ensure your comments are considered for the final version of the document, please submit your comments by March 25, 2024.

ADDRESSES: Submit your comments, identified by Docket ID No. EPA-HQ-OAR-2023-0614, to the Federal Portal: https://www.regulations.gov. Follow the online instructions for submitting comments. Once submitted, comments cannot be edited or withdrawn. Do not submit electronically any information you consider to be Confidential Business Information (CBI). EPA may publish any comment received to its public docket, submitted, or sent via email. For additional submission methods, the full EPA public comment policy, information about CBI, and general guidance on making effective comments, please visit https://www.epa.gov/dockets/commenting-epa-dockets.

FOR FURTHER INFORMATION CONTACT: Mr. Jeremy Martinich, Environmental Protection Agency, Office of Air and Radiation, Office of Atmospheric Protection, Climate Change Division, (202) 343-9871, cira@epa.gov.

SUPPLEMENTARY INFORMATION: Characterizing the future risks of climate change is a key goal of climate impacts analysis. The Framework for Evaluating Damages and Impacts (FrEDI) is a reduced form approach, implemented as an R package, that synthesizes data from existing peer-reviewed literature to project the distributional impacts of climate change to the U.S. through the end of the century. This framework relies on sectoral damages derived from existing peer-reviewed studies, which are further organized into an `impact by degree' analytical framework for use within FrEDI. Results from the FrEDI R package can then be used to inform analyses of climate change impacts to the U.S. to better understand and communicate the distributional impacts of climate change over time, and across various sectors, regions, and populations. The speed and flexibility of this framework also enables assessment of how projected climate change impacts may change in the future due to various adaptation or emission mitigation scenarios. FrEDI therefore fills an important gap in U.S. climate change impact assessments by synthesizing climate impact information from a broad range of peer-reviewed studies, while also having the flexibility to assess future U.S. impacts under any custom scenario.

Sharyn Lie,
Director, Climate Change Division.

[FR Doc. 2024-02625 Filed 2-22-24; 8:45 am]

BILLING CODE 6560-50-P